ELECTION ASSISTANCE COMMISSION

Technical Guidelines Development Committee; Meeting

AGENCY: U.S. Election Assistance Commission.

ACTION: Notice of conference call meeting.

DATES: Friday, February 7, 2020, 1:00-3:00 p.m. (EDT).

ADDRESSES: EAC Technical Guidelines Development Committee Conference Call.

To listen and monitor the event as an attendee:

1. Go to: https://zoom.us/j/407367407?pwd=c0RKTTRkeWMvSEE5SWRXUWYzTG1rdz09.

2. Enter Meeting ID: 407 367 407, Password: 252233.

One tap mobile:

+16699006833,,407367407# US (San Jose)

+19292056099,,407367407# US (New York)

Dial by your location:

+1 669 900 6833 US (San Jose)

+1 929 205 6099 US (New York)

888 788 0099 U.S. Toll-free

877 853 5247 U.S. Toll-free

Meeting ID: 407 367 407.

Find your local number: https://zoom.us/u/abFOYE5rh. For assistance: Contact the host, Steve Uyak at suyak@eac.gov.

Purpose: In accordance with the Federal Advisory Committee Act (FACA), Public Law 92-463, as amended (5 U.S.C. Appendix 2), the U.S. Election Assistance Commission (EAC) Technical Guidelines Development Committee will conduct a conference call to discuss Voluntary Voting System Guidelines and Usability Requirements.

Agenda: The Technical Guidelines Development Committee (TGDC) will discuss the Voluntary Voting System Guidelines 2.0 (VVSG 2.0) Technical Requirements and goals for 2020, and will vote on recommending the requirements to the EAC's Acting Executive Director.

Draft VVSG Requirements can be found at the TWiki page link: https://collaborate.nist.gov/voting/bin/view/Voting/VVSG20DraftRequirements. The most current version of the draft VVSG 2.0 Requirements is clearly marked at the top of the page to ensure the latest version is the topic of discussion at the time of the meetings. As stated in the disclaimer (and in each document), the Requirements are in a draft state and are not yet ready for final posting in their current form. These are provided “as is” for facilitating our on-going discussions, but do not yet represent an official or final version.

FOR FURTHER INFORMATION CONTACT: Jerome Lovato, Telephone: (301) 563-3919.

SUPPLEMENTARY INFORMATION: Members of the public may submit relevant written statements to the Technical Guidelines Development Committee with respect to the meeting no later than 10:00 a.m. EDT on Wednesday, February 5, 2020. Statements may be sent via email to facaboards@eac.gov, via standard mail addressed to the U.S. Election Assistance Commission, 1335 East West Highway, Suite 4300, Silver Spring, MD 20910, or by fax at 301-734-3108.

This conference call will be open to the public.

Nichelle S. Williams,
Director of Research, U.S. Election Assistance Commission.

[FR Doc. 2020-01553 Filed 1-28-20; 8:45 am]

BILLING CODE 6820-KF-P